DEPARTMENT OF HOUSING AND URBAN DEVELOPMENT

[Docket No. FR-5690-N-16]

60-Day Notice of Proposed Information Collection: Restrictions on Assistance to Noncitizens

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information for Applicant/Tenant's Consent to the Release of Information and the Authorization for the Release of Information/Privacy Act Notice. The purpose of this notice is to allow for 60 days of public comment.

DATES: Comments Due Date: February 10, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Restrictions on Assistance to Noncitizens.

OMB Approval Number: 2501-0014.

Type of Request: Extension of currently approved collection.

Form Number: HUD-9886, HUD-9886-ARA, HUD-9886-CAM, HUD-9886-CHI, HUD-9886-CRE, HUD-9886-FRE, HUD-9886-HMO, HUD-9886-KOR, HUD-9886-RUS, HUD-9886-SPA, HUD-9886-VIE.

Description of the need for the information and proposed use: HUD is prohibited from making financial assistance available to other than citizens or persons of eligible immigration status. This is a request for an extension of the current approval for HUD to require a declaration of citizenship or eligible immigration status from individuals seeking certain housing assistance.

Respondents (i.e. affected public): Individuals or households, State, Local, or Tribal Government.

Reporting burden | Number of respondents | Annual response | × | Hours per responses | = | Burden hours
New admissions | 4,055 | 864,434 |  | 0.16 |  | 138,309
Recertifications | 4,055 | 29,648 |  | 0.08 |  | 2,372

Total Estimated Burden Hours: 140,681.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35 as amended.

Dated: December 4, 2013.
Merrie Nichols-Dixon,
Deputy Director, Office of Policy, Programs and Legislative Initiatives.

[FR Doc. 2013-29542 Filed 12-10-13; 8:45 am]

BILLING CODE 4210-67-P